DEPARTMENT OF ENERGY

Federal Energy Regulatory Commission

Combined Notice of Filings #1

Take notice that the Commission received the following electric corporate filings:

Docket Numbers: EC24-91-000.

Applicants: Tenaska Virginia Partners, L.P.

Description: Application for Authorization Under Section 203 of the Federal Power Act of Tenaska Virginia Partners, L.P.

Filed Date: 6/21/24.

Accession Number: 20240621-5215.

Comment Date: 5 p.m. ET 7/12/24.

Take notice that the Commission received the following exempt wholesale generator filings:

Docket Numbers: EG24-210-000.

Applicants: Millers Branch Solar, LLC.

Description: Millers Branch Solar, LLC submits notice of self-certification of exempt wholesale generator status.

Filed Date: 6/24/24.

Accession Number: 20240624-5093.

Comment Date: 5 p.m. ET 7/15/24.

Docket Numbers: EG24-211-000.

Applicants: FRP Tupelo Solar, LLC.

Description: FRP Tupelo Solar, LLC submits notice of self-certification of exempt wholesale generator status.

Filed Date: 6/24/24.

Accession Number: 20240624-5160.

Comment Date: 5 p.m. ET 7/15/24.

Docket Numbers: EG24-212-000.

Applicants: Harmony Florida Solar II, LLC.

Description: Harmony Florida Solar II, LLC submits notice of self-certification of exempt wholesale generator status.

Filed Date: 6/24/24.

Accession Number: 20240624-5161.

Comment Date: 5 p.m. ET 7/15/24.

Docket Numbers: EG24-213-000.

Applicants: Storey Bend Solar, LLC.

Description: Storey Bend Solar, LLC submits notice of self-certification of exempt wholesale generator status.

Filed Date: 6/24/24.

Accession Number: 20240624-5166.

Comment Date: 5 p.m. ET 7/15/24.

Take notice that the Commission received the following Complaints and Compliance filings in EL Dockets:

Docket Numbers: EL24-119-000.

Applicants: PJM Interconnection, L.L.C.

Description: ISO/RTO 206 Filing: Revisions to Operating Agreement Facilitating PJM Independent 205 Filing Rights to be effective 12/31/9998.

Filed Date: 6/21/24.

Accession Number: 20240621-5078.

Comment Date: 5 p.m. ET 7/12/24.

Take notice that the Commission received the following electric rate filings:

Docket Numbers: ER15-1905-017.

Applicants: AZ721 LLC.

Description: Notice of Change in Status of Amazon Energy LLC.

Filed Date: 6/21/24.

Accession Number: 20240621-5214.

Comment Date: 5 p.m. ET 7/12/24.

Docket Numbers: ER23-2625-001; ER11-1846-013; ER11-1847-013; ER11-1850-013; ER11-2062-030; ER11-2175-008; ER11-2176-007; ER11-2598-016; ER11-3188-008; ER11-3418-010; ER11-4307-031; ER11-4308-031; ER12-224-009; ER12-225-009; ER12-261-030; ER12-2301-008; ER17-764-008; ER17-765-008; ER17-767-008; ER18-1160-004; ER21-2826-003.

Applicants: NRG Curtailment Solutions, Inc., NRG Cottonwood Tenant LLC, Stream Energy Delaware, LLC, Stream Energy Illinois, LLC, Stream Ohio Gas & Electric, LLC, Stream Energy New York, LLC, Independence Energy Group LLC, Stream Energy New Jersey, LLC, Stream Energy Columbia, LLC, Reliant Energy Northeast LLC, Green Mountain Energy Company, XOOM Energy, LLC, Stream Energy Maryland, LLC, Gateway Energy Services Corporation, Stream Energy Pennsylvania, LLC, SGE Energy Sourcing, LLC, Energy Plus Holdings LLC, Direct Energy Business, LLC, Direct Energy Marketing Inc., Direct Energy Services, LLC, NRG Business Marketing LLC.

Description: Triennial market power analysis for Northeast Region of NRG Business Marketing LLC.

Filed Date: 6/20/24.

Accession Number: 20240620-5360.

Comment Date: 5 p.m. ET 8/19/24.

Docket Numbers: ER24-729-001.

Applicants: Holyoke BESS LLC.

Description: Refund Report: Refund Report in Docket ER24-729 to be effective N/A.

Filed Date: 6/24/24.

Accession Number: 20240624-5181.

Comment Date: 5 p.m. ET 7/15/24.

Docket Numbers: ER24-738-001.

Applicants: PNY BESS LLC.

Description: Refund Report: Refund Report in Docket ER24-738 to be effective N/A.

Filed Date: 6/24/24.

Accession Number: 20240624-5175.

Comment Date: 5 p.m. ET 7/15/24.

Docket Numbers: ER24-1610-001.

Applicants: Basin Electric Power Cooperative.

Description: Tariff Amendment: Response to May 24, 2024 Deficiency Letter to be effective 8/20/2024.

Filed Date: 6/21/24.

Accession Number: 20240621-5200.

Comment Date: 5 p.m. ET 7/12/24.

Docket Numbers: ER24-1982-001.

Applicants: Wellesley BESS LLC.

Description: Tariff Amendment: Amended Application for Market Based Rate Authorization to be effective 7/1/2024.

Filed Date: 6/21/24.

Accession Number: 20240621-5172.

Comment Date: 5 p.m. ET 7/1/24.

Docket Numbers: ER24-2344-000.

Applicants: PJM Interconnection, L.L.C.

Description: 205(d) Rate Filing: Amendment to ISA, SA No. 5682; Queue Nos. AF1-190/AF1-191 (amend) to be effective 8/21/2024.

Filed Date: 6/21/24.

Accession Number: 20240621-5173.

Comment Date: 5 p.m. ET 7/12/24.

Docket Numbers: ER24-2345-000.

Applicants: SEPV Cuyama, LLC.

Description: Baseline eTariff Filing: Application for Market-Based Rate Authorization and Request for Waivers to be effective 6/25/2024.

Filed Date: 6/24/24.

Accession Number: 20240624-5052.

Comment Date: 5 p.m. ET 7/15/24.

Docket Numbers: ER24-2346-000.

Applicants: Southwest Power Pool, Inc.

Description: 205(d) Rate Filing: 1892R13 Evergy Kansas Central, Inc. NITSA NOA to be effective 9/1/2024.

Filed Date: 6/24/24.

Accession Number: 20240624-5071.

Comment Date: 5 p.m. ET 7/15/24.

Docket Numbers: ER24-2347-000.

Applicants: Southwest Power Pool, Inc.

Description: 205(d) Rate Filing: 1977R20 Nemaha-Marshall Electric Cooperative NITSA and NOA to be effective 9/1/2024.

Filed Date: 6/24/24.

Accession Number: 20240624-5079.

Comment Date: 5 p.m. ET 7/15/24.

Docket Numbers: ER24-2348-000.

Applicants: Southwest Power Pool, Inc.

Description: 205(d) Rate Filing: 1978R13 Evergy Kansas Central, Inc. NITSA NOA to be effective 9/1/2024.

Filed Date: 6/24/24.

Accession Number: 20240624-5086.

Comment Date: 5 p.m. ET 7/15/24.

Docket Numbers: ER24-2349-000.

Applicants: Southwest Power Pool, Inc.

Description: 205(d) Rate Filing: 1893R14 Evergy Kansas Central, Inc. NITSA NOA to be effective 9/1/2024.

Filed Date: 6/24/24.

Accession Number: 20240624-5092.

Comment Date: 5 p.m. ET 7/15/24.

Docket Numbers: ER24-2350-000.

Applicants: Southwest Power Pool, Inc.

Description: 205(d) Rate Filing: 1894R13 Evergy Kansas Central, Inc. NITSA NOA to be effective 9/1/2024.

Filed Date: 6/24/24.

Accession Number: 20240624-5099.

Comment Date: 5 p.m. ET 7/15/24.

Docket Numbers: ER24-2351-000.

Applicants: Southwest Power Pool, Inc.

Description: 205(d) Rate Filing: 1895R14 Evergy Kansas Central, Inc. NITSA NOA to be effective 9/1/2024.

Filed Date: 6/24/24.

Accession Number: 20240624-5112.

Comment Date: 5 p.m. ET 7/15/24.

Docket Numbers: ER24-2352-000.

Applicants: Southwest Power Pool, Inc.

Description: 205(d) Rate Filing: 1897R14 Evergy Kansas Central, Inc. NITSA NOA to be effective 9/1/2024.

Filed Date: 6/24/24.

Accession Number: 20240624-5118.

Comment Date: 5 p.m. ET 7/15/24.

Docket Numbers: ER24-2353-000.

Applicants: American Electric Power Service Corporation, PJM Interconnection, L.L.C.

Description: 205(d) Rate Filing: American Electric Power Service Corporation submits tariff filing per 35.13(a)(2)(iii: AEP submits amended ILDSA, SA No. 1252 to be effective 9/1/2024.

Filed Date: 6/24/24.

Accession Number: 20240624-5151.

Comment Date: 5 p.m. ET 7/15/24.

Docket Numbers: ER24-2354-000.

Applicants: PJM Interconnection, L.L.C.

Description: 205(d) Rate Filing: Ministerial Clean-Up OATT, Att. K-Appendix and OA, Schedule 1, Sections 3.2 to be effective 4/1/2015.

Filed Date: 6/24/24.

Accession Number: 20240624-5172.

Comment Date: 5 p.m. ET 7/15/24.

Docket Numbers: ER24-2355-000.

Applicants: PJM Interconnection, L.L.C.

Description: 205(d) Rate Filing: Amended ISA, Service Agreement No. 6578; AD1-088 to be effective 8/26/2024.

Filed Date: 6/24/24.

Accession Number: 20240624-5180.

Comment Date: 5 p.m. ET 7/15/24.

Take notice that the Commission received the following foreign utility company status filings:

Docket Numbers: FC24-3-000.

Applicants: Enbridge Inc.

Description: Enbridge Inc. submits Notice of Self-Certification of Foreign Utility Company Status.

Filed Date: 6/20/24.

Accession Number: 20240620-5021.

Comment Date: 5 p.m. ET 7/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 24, 2024.
Debbie-Anne A. Reese,
Acting Secretary.

[FR Doc. 2024-14395 Filed 6-28-24; 8:45 am]

BILLING CODE 6717-01-P